DEPARTMENT OF COMMERCE

National Oceanic and Atmospheric Administration

50 CFR Part 679

[Docket No. 000331092-0315-02; I.D. 030100F]

RIN 0648-AM42

Fisheries in the Exclusive Economic Zone Off Alaska; License Limitation Program for the Scallop Fishery; Correction

AGENCY: National Marine Fisheries Service (NMFS), National Oceanic and Atmospheric Administration (NOAA), Commerce.

ACTION: Final rule; correction.

SUMMARY: This document corrects regulatory text in the final rule that implements a license limitation program for the scallop fishery, which was published in the Federal Register on December 14, 2000.

DATES: Effective January 16, 2001.

FOR FURTHER INFORMATION CONTACT: Patsy A. Bearden, 907-586-7008.

SUPPLEMENTARY INFORMATION:

Background

A final rule was published in the Federal Register on December 14, 2000 (65 FR 78110), to implement a license limitation program for the scallop fishery. The regulatory text portion of the final rule describing the procedure for transfer of a scallop license incorrectly listed the social security number as required information.

Correction

In the final rule to implement a license limitation program for the scallop fishery, published at 65 FR 78110, December 14, 2000, FR Doc. 00-31649, the following corrections are made:

1. On page 78118, column one, § 679.4(g)(5)(iii)(A) is correctly revised to read as follows:

§ 679.4 Permits.

* * * * *

(g) * * *

(5) * * *

(iii) * * *

(A) Name, business address, telephone number, and FAX number of the license holder and of the designated transferee;

* * * * *

Dated: March 1, 2001.
Clarence Pautzke,
Acting Assistant Administrator for Fisheries, National Marine Fisheries Service

[FR Doc. 01-5760 Filed 3-7-01; 8:45 am]

BILLING CODE 3510-22-S